DEPARTMENT OF HOMELAND SECURITY

Coast Guard

33 CFR Part 117

[Docket No. USCG-2008-0049]

Drawbridge Operation Regulations; Gulf Intracoastal Waterway (GIWW), Mile 49.8, Near Houma, Lafourche Parish, LA

AGENCY: Coast Guard, DHS.

ACTION: Notice of proposed rulemaking; withdrawal.

SUMMARY: The Coast Guard is withdrawing its notice of proposed rulemaking concerning the operation of the SR 316 Blue Bayou Pontoon Bridge across the GIWW, mile 49.8, near Houma, Lafourche Parish, Louisiana. The notice of proposed rulemaking proposed to allow the bridge to stay closed for school buses to pass when carrying children, but due to mechanical improvements of the bridge, the requester, Lafourche Parish Council, has withdrawn their request.

DATES: The notice of proposed rulemaking is withdrawn on November 6, 2008.

ADDRESSES: The docket for this withdrawn rulemaking is available for inspection or copying at the Docket Management Facility (M-30), U.S. Department of Transportation, West Building Ground Floor, Room 212-140, 1200 New Jersey Avenue, SE., Washington, DC 20590, between 9 a.m. and 5 p.m., Monday through Friday, except Federal holidays. You may also find this docket on the Internet at www.regulations.gov.

FOR FURTHER INFORMATION CONTACT: If you have questions on the proposed rule or the withdrawal, call Bart Marcules, Bridge Administration Branch, telephone (504) 671-2128. If you have questions on viewing the docket, call Renee V. Wright, Program Manager, Docket Operations, telephone 202-366-9826.

SUPPLEMENTARY INFORMATION:

Background

On March 12, 2008, we published a notice of proposed rulemaking entitled “Drawbridge Operation Regulations; Gulf Intracoastal Waterway (GIWW), mile 49.8, near Houma, Lafourche Parish, LA” in the Federal Register (73 FR 13160). The rulemaking concerned a change to the regulation governing the operation of the SR 316 Blue Bayou Pontoon Bridge across the GIWW, mile 49.8, near Houma, Lafourche Parish, Louisiana. The bridge opens on signal, but due to high vehicular traffic and school bus traffic, Lafourche Parish requested a change. The proposed rule would have required the draw of the bridge to open on signal, except from 7 a.m. to 8:30 a.m., 4 p.m., and from 4:30 p.m. to 5:30 p.m. during the regular school year on Monday through Friday except Federal holidays.

Withdrawal

Due to mechanical improvements of the bridge and no new complaints since the mechanical improvements, the requester, Lafourche Parish Council, has withdrawn their request. Also, one comment to the Notice of Proposed Rulemaking stated that improved mechanical operations of the bridge could help this situation. The mechanical improvements have made closing the bridge a quicker process, alleviating the extensive vehicular backlog created by the opening and closing of the bridge.

Authority: This action is taken under the authority of 33 U.S.C. 499; 33 CFR 1.05-1; Department of Homeland Security Delegation No. 0170.1.

Dated: October 23, 2008.
J.R. Whitehead,
Rear Admiral, U.S. Coast Guard Commander, Eighth Coast Guard District.

[FR Doc. E8-26525 Filed 11-5-08; 8:45 am]

BILLING CODE 4910-15-P